DEPARTMENT OF COMMERCE

Foreign-Trade Zones Board

[Order No. 1782]

Reorganization/Expansion of Foreign-Trade Zone 225 under Alternative Site Framework, Springfield, MO

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/2009; correction 74 FR 3987, 01/22/2009; 75 FR 71069-71070, 11/22/2010) as an option for the establishment or reorganization of general-purpose zones;

Whereas, the City of Springfield Airport Board, grantee of Foreign-Trade Zone 225, submitted an application to the Board (FTZ Docket 32-2011, filed 5/10/2011) for authority to reorganize and expand under the ASF with a service area of Barry, Barton, Cedar, Christian, Dade, Dallas, Douglas, Greene, Hickory, Howell (partial), Jasper, Laclede, Lawrence, McDonald, Newton, Ozark, Polk, Stone, Taney, Texas (partial), Vernon, Webster and Wright Counties, Missouri, within and adjacent to the Springfield Customs and Border Protection port of entry, FTZ 225's existing Site 1 would be categorized as a magnet site, and the grantee proposes an initial usage-driven site (Site 2);

Whereas, notice inviting public comment was given in the Federal Register (76 FR 28212, 5/16/2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 225 under the alternative site framework is approved, subject to the FTZ Act and the Board's regulations, including Section 400.28, to the Board's standard 2,000-acre activation limit for the overall general-purpose zone project, and to a three-year ASF sunset provision for usage-driven sites that would terminate authority for Site 2 if no foreign-status merchandise is admitted for a bona fide customs purpose by September 30, 2014.

Signed at Washington, DC this 30th day of September 2011.
Ronald K. Lorentzen,
Deputy Assistant Secretary for Import Administration, Alternate Chairman, Foreign-Trade Zones Board.
ATTEST: ________________________________
Andrew McGilvray,
Executive Secretary.

[FR Doc. 2011-26376 Filed 10-11-11; 8:45 am]

BILLING CODE P